ENVIRONMENTAL PROTECTION AGENCY

[FRL-6920-2]

Proposed Prospective Purchaser Agreement Pursuant to the Comprehensive Environmental Response, Compensation and Liability Act of 1980, as Amended by the Superfund Amendments and Reauthorization Act, Leavenworth Auto Parts Superfund Site, Leavenworth, KS

AGENCY: Environmental Protection Agency (EPA).

ACTION: Notice of proposed settlement and request for public comment.

SUMMARY: Notice is hereby given that a proposed Prospective Purchaser Agreement (“Agreement”) associated with the Leavenworth Auto Parts Superfund Site, located at 777 Cherokee Street, Leavenworth, Kansas, was signed by the Agency on October 31, 2000, and subsequently signed by the United States Department of Justice on December 4, 2000. This Agreement is subject to final Agency approval after a public comment period. The Agreement would resolve certain potential EPA claims under the Comprehensive Environmental Response, Compensation and Liability Act of 1980 as amended (“CERCLA”) against Ricky D. Jackson, the prospective purchaser (“the purchaser”). The Agreement includes a covenant not to sue the purchaser under Sections 106 and 107(a) of CERCLA, 42 U.S.C. 9606 and 9607(a).

The settlement Agreement requires the purchaser to provide access to the EPA, its authorized officials, employees, representatives, and all other persons performing response actions under EPA oversight. The purchaser also agrees to a deed restriction limiting future use of the property, which may not be used for residential purposes, as a day-care center, or as a playground. In addition, the settlement would require the purchaser to pay to the CERCLA Hazardous Substance Superfund a cash sum of $1,000.00.

DATES: For thirty (30) days following the date of publication of this notice, the Agency will receive written comments relating to this proposed settlement. Comments must be submitted on or before January 22, 2001.

ADDRESSES: Comments should reference the “Leavenworth Auto Parts Superfund Site Prospective Purchaser Agreement” and should be forwarded to Kathy Robinson, Regional Hearing Clerk, U.S. Environmental Protection Agency, Region VII, 901 North 5th Street, Kansas City, Kansas 66101.

This proposed settlement Agreement is available for public inspection at the U.S. Environmental Protection Agency, Region VII, 901 North 5th Street, Kansas City, Kansas 66101. A copy of this Agreement may be obtained from the Region VII office. To view this document or obtain a copy, contact Kathy Robinson, Regional Hearing Clerk, U.S. Environmental Protection Agency, Region VII, 901 North 5th Street, Kansas City, Kansas 66101, (913) 551-7567.

FOR FURTHER INFORMATION CONTACT: Jonathan Kahn, Assistant Regional Counsel, United States Environmental Protection Agency, Region VII, 901 North 5th Street, Kansas City, Kansas 66101, (913) 551-7252.

Dated: December 12, 2000.
Nat Scurry,
Acting Regional Administrator, Region VII.

[FR Doc. 00-32672 Filed 12-21-00; 8:45 am]

BILLING CODE 6560-50-U